DEPARTMENT OF COMMERCE

National Oceanic and Atmospheric Administration

50 CFR Part 229

[021213308-2308-01, 111802B]

RIN 0648-AQ60

List of Fisheries for 2003

AGENCY: National Marine Fisheries Service (NMFS), National Oceanic and Atmospheric Administration (NOAA), Commerce.

ACTION: Notice of proposed rulemaking.

SUMMARY: The National Marine Fisheries Service (NMFS) proposes changes for 2003 to the List of Fisheries (LOF) as required by the Marine Mammal Protection Act (MMPA). The proposed LOF for 2003 reflects new information on interactions between commercial fisheries and marine mammals. Under the MMPA, NMFS must place each commercial fishery on the LOF into one of three categories based upon the level of serious injury and mortality of marine mammals that occurs incidental to that fishery. The categorization of a fishery in the LOF determines whether participants in that fishery are subject to certain provisions of the MMPA, such as registration, observer coverage, and take reduction plan requirements.

DATES: Comments must be received by February 10, 2003.

ADDRESSES: Send comments to Chief, Marine Mammal Conservation Division, Attn: List of Fisheries, Office of Protected Resources, NMFS, 1315 East-West Highway, Silver Spring, MD 20910.

Comments regarding the burden-hour estimates or any other aspect of the collection of information requirements contained in this proposed rule should be sent to the Chief, Marine Mammal Conservation Division, Office of Protected Resources, NMFS, 1315 East-West Highway, Silver Spring, MD 20910 and to the Office of Information and Regulatory Affairs, OMB, Attention: NOAA Desk Officer, Washington, DC 20503.

Registration information, materials, and marine mammal reporting forms may be obtained from the following regional offices:

NMFS, Northeast Region, One Blackburn Drive, Gloucester, MA 01930-2298, Attn: Marcia Hobbs.

NMFS, Southeast Region, 9721 Executive Center Drive North, St. Petersburg, FL 33702, Attn: Teletha Griffin.

NMFS, Southwest Region, Protected Species Management Division, 501 W. Ocean Blvd., Suite 4200, Long Beach, CA 90802-4213, Attn: Don Peterson.

NMFS, Northwest Region, 7600 Sand Point Way NE, Seattle, WA 98115, Attn: Permits Office.

NMFS, Alaska Region, Protected Resources, P.O. Box 22668, 709 West 9th Street, Juneau, AK 99802.

FOR FURTHER INFORMATION CONTACT: Tanya Dobrzynski, Office of Protected Resources, 301-713-2322; Kim Thounhurst, Northeast Region, 978-281-9138; Katie Moore, Southeast Region, 727-570-5312; Cathy Campbell, Southwest Region, 562-980-4060; Brent Norberg, Northwest Region, 206-526-6733; Amy Van Atten, Alaska Region, 907-586-7642. Individuals who use a telecommunications device for the deaf may call the Federal Information Relay Service at 1-800-877-8339 between 8 a.m. and 4 p.m. Eastern time, Monday through Friday, excluding Federal holidays.

SUPPLEMENTARY INFORMATION:

What is the List of Fisheries?

Under section 118 of the MMPA, NMFS must publish, at least annually, an LOF that places all U.S. commercial fisheries into one of three categories based on the level of incidental serious injury and mortality of marine mammals that occurs in each fishery (16 U.S.C. 1387 (c)(1)). The categorization of a fishery in the LOF determines whether participants in that fishery may be required to comply with certain provisions of the MMPA, such as registration, observer coverage, and take reduction plan requirements.

How Does NMFS Determine in which Category a Fishery is Placed?

The definitions for the fishery classification criteria can be found in the implementing regulations for section 118 of the MMPA (50 CFR 229.2). The criteria are also summarized here.

Fishery Classification Criteria

The fishery classification criteria consist of a two-tiered, stock-specific approach that first addresses the total impact of all fisheries on each marine mammal stock and then addresses the impact of individual fisheries on each stock. This approach is based on consideration of the rate, in numbers of animals per year, of incidental mortalities and serious injuries of marine mammals due to commercial fishing operations relative to the Potential Biological Removal (PBR) level for each marine mammal stock. The MMPA (16 U.S.C. 1362 (20)) defines the PBR level as the maximum number of animals, not including natural mortalities, that may be removed from a marine mammal stock while allowing that stock to reach or maintain its optimum sustainable population. This definition can also be found in the implementing regulations for Section 118 at 50 CFR 229.2.

Tier 1: If the total annual mortality and serious injury across all fisheries that interact with a stock is less than or equal to 10 percent of the PBR level of this stock, all fisheries interacting with this stock would be placed in Category III. Otherwise, these fisheries are subject to the next tier (Tier 2) of analysis to determine their classification.

Tier 2, Category I: Annual mortality and serious injury of a stock in a given fishery is greater than or equal to 50 percent of the PBR level.

Tier 2, Category II: Annual mortality and serious injury of a stock in a given fishery is greater than 1 percent and less than 50 percent of the PBR level.

Tier 2, Category III: Annual mortality and serious injury of a stock in a given fishery is less than or equal to 1 percent of the PBR level.

While Tier 1 considers the cumulative fishery mortality and serious injury for a particular stock, Tier 2 considers fishery-specific mortality and serious injury for a particular stock. Additional details regarding how threshold percentages between the categories were determined are provided in the preamble to the final rule implementing section 118 of the MMPA (60 FR 45086, August 30, 1995).

Note that, since fisheries are categorized on a per-stock basis, a fishery may qualify as one Category for one marine mammal stock and a distinct Category for a different marine mammal stock. A fishery is typically placed on the LOF at its highest level of classification (e.g., a fishery that qualifies for Category III for one marine mammal stock and for Category II for another marine mammals stock will be listed under Category II).

Other Criteria That May Be Considered

In the absence of reliable information indicating the frequency of incidental mortality and serious injury of marine mammals by a commercial fishery, NMFS will determine whether the incidental serious injury or mortality qualifies for Category II by evaluating other factors such as fishing techniques, gear used, methods used to deter marine mammals, target species, seasons and areas fished, qualitative data from logbooks or fisher reports, stranding data, and the species and distribution of marine mammals in the area, or at the discretion of the Assistant Administrator (50 CFR 229.2).

How Do I Find Out if a Specific Fishery is in Category I, II, or III?

This proposed rule includes two tables that list all U.S. commercial fisheries by LOF Category. Table 1 lists all of the fisheries in the Pacific Ocean (including Alaska). Table 2 lists all of the fisheries in the Atlantic Ocean, Gulf of Mexico, and Caribbean.

Am I Required to Register Under the MMPA?

Owners of vessels or gear engaging in a Category I or II fishery are required under the MMPA (16 U.S.C. 1387(c)(2)), as described in 50 CFR 229.4, to register with NMFS and obtain a marine mammal authorization from NMFS in order to lawfully incidentally take a marine mammal in a commercial fishery. Owners of vessels or gear engaged in a Category III fishery are not required to register with NMFS or obtain a marine mammal authorization.

How Do I Register?

Fishers must register with the Marine Mammal Authorization Program (MMAP) by contacting the relevant NMFS Regional Office (see ADDRESSES) unless they participate in a fishery that has an integrated registration program (described below). Upon receipt of a completed registration, NMFS will issue vessel or gear owners physical evidence of a current and valid registration that must be displayed or that must be in the possession of the master of each vessel while fishing in accordance with Section 118 of the MMPA (16 U.S.C. 1387(c)(3)(A)).

What is the Process for Registering in an Integrated Fishery?

For some fisheries, NMFS has integrated the MMPA registration process with existing state and Federal fishery license, registration, or permit systems and related programs. Participants in these fisheries are automatically registered under the MMPA and are not required to submit registration or renewal materials or pay the $25 registration fee. Following is a list of integrated fisheries and a summary of the integration process for each Region. Fishers who operate in an integrated fishery and have not received registration materials should contact their NMFS Regional Office (see ADDRESSES).

Which Fisheries Have Integrated Registration Programs?

The following fisheries have integrated registration programs under the MMPA:

1. All Alaska Category II fisheries.

2. All Washington and Oregon Category II fisheries.

3. Northeast Regional fisheries for which a state or Federal permit is required. Individuals fishing in fisheries for which no state or Federal permit is required must register with NMFS by contacting the Northeast Regional Office (see ADDRESSES).

4. All North Carolina, South Carolina, Georgia, and Florida Category II fisheries for which a state permit is required.

Alaska Region

The Alaska Region has integrated MMAP registration for Alaska Category II fisheries with the Alaska State system for registering commercial vessels and permitting commercial fishers. Therefore, if a vessel owner plans to participate in one or more of the Category II fisheries and is licensed under the State of Alaska's Commercial Fisheries Entry Program, the vessel owner will be registered automatically in the MMAP and will not have to submit MMAP registration or renewal materials or pay a processing fee. The information required for MMAP registration will be obtained by NMFS directly from the State of Alaska and will be automatically incorporated into the NMFS MMAP database. At the beginning of each calendar year, permitted vessel owners and set net operators will be sent an MMAP certificate for that year, an MMAP decal, the terms and conditions of the authorization, and marine mammal injury and mortality reporting forms. MMAP certificates will be valid only if presented with a valid fishing permit.

Northwest Region

Washington and Oregon have integrated MMAP registration with existing permit programs for all Washington and Oregon Category II fisheries. These states issue MMAP certificates for Category II fisheries as part of the fishing license renewal process. MMAP certificates will be valid only if presented with a valid fishing permit. If a vessel owner plans to participate in one or more of the Category II fisheries or has a license issued by the states of Oregon or Washington, the vessel owner will be registered automatically in the MMAP and will not have to submit MMAP registration or renewal materials or pay a processing fee.

Southwest Region

No Southwest Region fisheries are integrated under the MMAP.

Northeast Region

In the Northeast Region, MMAP registration is integrated with existing fishing permit processes for all fishers engaged in Category I or II fisheries for which a state or federal permit is required. At the beginning of each calendar year, these vessel owners will be sent an MMAP certificate for that year, the terms and conditions of the authorization, and marine mammal and injury reporting forms. However, all state and Federal permit holders that receive new permits for Category I or II fisheries after the beginning of the calendar year must submit a registration or renewal application to NMFS Northeast Regional Office (see ADDRESSES). MMAP certificates will be valid only if presented with a valid state or Federal fishing permit. Individuals fishing in Category I or II fisheries in the Northeast Region for which state or federal permits are not required must register under the MMAP by submitting a registration or renewal form to NMFS Northeast Regional Office (see ADDRESSES). No fees are required for either integrated or non-integrated fisheries.

Southeast Region

NMFS has integrated registration for all participants in North Carolina, South Carolina, Georgia, and Florida Category II fisheries for which a state permit is required. Therefore, for these fisheries, the vessel owner will be registered automatically in the MMAP and will not have to submit MMAP registration or renewal materials or pay a processing fee. At the beginning of each calendar year, these vessel owners will be sent an MMAP certificate for that year, the terms and conditions of the authorization, and marine mammal and injury reporting forms. MMAP certificates will be valid only if presented with a valid state permit. All fishers who plan to participate in any other Category I or II fishery in the Southeast Region must register under the MMAP by submitting a registration or renewal form and the processing fee to NMFS. The Southeast Region is currently working towards integrating additional state and federal licensing and permitting systems with the MMAP.

How Do I Renew My Registration Under the MMPA?

Regional Offices, except for the Northeast Region, annually send renewal packets to participants in Category I or II fisheries that have previously registered; however, it is the responsibility of the fisher to ensure that registration or renewal forms are completed and submitted to NMFS at least 30 days in advance of fishing. Individuals who have not received a renewal packet by January 1 or are registering for the first time should request a registration form from the appropriate Regional Office (see ADDRESSES).

Am I Required to Submit Reports When I Injure or Kill a Marine Mammal During the Course of Commercial Fishing Operations?

In accordance with the MMPA (16 U.S.C. 1387(e)) and 50 CFR 229.6, any vessel owner or operator, or fisher (in the case of non-vessel fisheries), participating in a Category I, II, or III fishery must report all incidental injuries or mortalities of marine mammals that occur during commercial fishing operations to NMFS. “Injury” is defined in 50 CFR 229.2 as a wound or other physical harm. In addition, any animal that ingests fishing gear or any animal that is released with fishing gear entangling, trailing, or perforating any part of the body is considered injured, regardless of the absence of any wound or other evidence of an injury, and must be reported. Instructions on how to submit reports can be found in 50 CFR 229.6.

Am I Required to Take an Observer Aboard My Vessel?

Fishers participating in a Category I or II fishery are required to accommodate an observer aboard vessel(s) upon request. Observer requirements can be found in 50 CFR 229.7.

Am I Required to Comply With Any Take Reduction Plan Regulations?

Fishers participating in a Category I or II fishery are required to comply with any applicable take reduction plans.

Sources of Information Reviewed for the Proposed 2003 LOF

NMFS reviewed the marine mammal incidental serious injury and mortality information presented in the Stock Assessment Reports (SARs) for all observed fisheries to determine whether changes in fishery classification were warranted. NMFS also reviewed other sources of new information, including marine mammal stranding data, observer program data, fisher self-reports, and other information that is not included in the SARs.

NMFS SARs provide the best available information on both the level of serious injury and mortality of marine mammals that occurs incidental to commercial fisheries and the PBR levels for marine mammal stocks.

The information contained in the SARs is reviewed by regional scientific review groups (SRGs) representing Alaska, the Pacific (including Hawaii), and the U.S. Atlantic, Gulf of Mexico, and the Caribbean. The SRGs were created by the MMPA to review the science that goes into the stock assessment reports and to advise NMFS on population status and trends, stock structure, uncertainties in the science, research needs, and other issues.

The proposed LOF for 2003 was based on information provided in the final SARs for 1996 (63 FR 60, January 2, 1998), the final SARs for 2001 (67 FR 10671, March 8, 2002), and the draft SARs for 2002 (67 FR 19417, April 19, 2002).

Summary of Changes to the Proposed LOF for 2003

With the following exceptions, the placement and definitions of U.S. commercial fisheries are identical to those provided in the LOF for 2002. The following summarizes changes in fishery classification, fishery definition, fisheries listed on the LOF, number of participants in a particular fishery, and the species and/or stocks that are incidentally killed or seriously injured in a particular fishery, that are proposed for the 2003 LOF.

Commercial Fisheries in the Pacific Ocean: Fishery Classification

Alaska Bering Sea Aleutian Islands Groundfish Trawl Fishery

NMFS proposes to elevate the Alaska (AK) Bering Sea and Aleutian Islands (BSAI) groundfish trawl fishery to Category II based on a review of observer data from 1995-1999 and the following tier analysis. Observer coverage in the AK BSAI groundfish trawl fishery ranged from 53 percent to 76 percent per year between 1990 and 2000. Marine mammal species incidentally injured or killed in the AK BSAI groundfish trawl fishery include: western North Pacific stock of humpback whales, eastern North Pacific stock of resident killer whales, eastern North Pacific stock of transient killer whales, central North Pacific stock of humpback whales, western U.S. stock of Steller sea lions, northeast Pacific stock of fin whales, North Pacific stock of Pacific white-sided dolphin, Bering Sea stock of harbor porpoise, Eastern Pacific stock of northern fur seals, Bering Sea stock of harbor seals, Alaska stock of bearded seals, Alaska stock of ringed seals, Alaska stock of spotted seals, Alaska stock of Dall's porpoise, Alaska stock of ribbon seals, CA breeding stock of northern elephant seals, Alaska stock of sea otters, and Alaska stock of Pacific walrus.

Tier 1 Evaluation: Total annual incidental mortality and serious injury across all fisheries is greater than or equal to 10 percent of the PBR levels for the following stocks: western North Pacific humpback whales, eastern North Pacific resident killer whales, eastern North Pacific transient killer whales, central North Pacific humpback whales, and western U.S. Steller sea lions. Therefore, the AK BSAI Groundfish Trawl Fishery is subject to Tier 2 analysis.

Tier 2 Evaluation: Total annual mortality and serious injury of the western North Pacific stock of humpback whales in this fishery is 0.4 animals per year, or 57.1 percent of the PBR level (0.7 animals per year). Because this level of mortality and serious injury exceeds 50 percent of the PBR level, this fishery qualifies for elevation to Category I.

Total annual mortality and serious injury of the eastern North Pacific transient stock of killer whales in this fishery is 0.6 animals per year, or 14.3 percent of the PBR level (2.8 animals per year). Because this level of mortality and serious injury exceeds 1 percent of the PBR level but is less than 50 percent of the PBR level, this fishery qualifies for elevation to Category II.

Total annual mortality and serious injury of the eastern North Pacific resident stock of killer whales in this fishery is 0.6 animals per year, or 8.3 percent of the PBR level (7.2 animals per year). Because this level of mortality and serious injury exceeds 1 percent of the PBR level but is less than 50 percent of the PBR level, this fishery qualifies for elevation to Category II.

Total annual mortality and serious injury of the central North Pacific stock of humpback whales in this fishery is 0.4 animals per year, or 5.4 percent of the PBR level (7.4 animals per year). Because this level of mortality and serious injury exceeds 1 percent of the PBR level but is less than 50 percent of the PBR level, this fishery qualifies for elevation to Category II.

Total annual mortality and serious injury of the western U.S. stock of Steller sea lions in this fishery is 7.8 animals per year, or 3.8 percent of the PBR level (208 animals per year). Because this level of mortality and serious injury exceeds 1 percent of the PBR level but is less than 50 percent of the PBR level, this fishery qualifies for elevation to Category II.

The data presented above, specifically the serious injury and mortality of western North Pacific humpback whales, appears to justify placement of the AK BSAI groundfish trawl fishery into Category I. However, NMFS considered additional information about the data. The PBR level for western North Pacific humpback whales is based on a minimum population estimate of 367 animals, which may be an underestimate of the true population size. Recent vessel surveys of a small portion of the Bering Sea resulted in an estimate of approximately 1,100 humpback whales. However, it is not possible to determine what portion of this estimate can be assigned to the central stock versus the western stock of humpback whales. If the minimum population estimate for the western stock is underestimated by only 43 animals, total annual mortality and serious injury in this fishery would be less than 50 percent of the PBR level and the fishery would qualify for Category II.

Additionally, it is not known whether the humpback whale mortalities incidental to this fishery (1 in 1998 and 1 in 1999) should be assigned to the western or central stocks. The mortalities are assigned to both stocks (i.e., 2 mortalities assigned to the western stock and 2 mortalities assigned to the central stock) and therefore the mortalities are “double-counted” in the above tier analysis. If one mortality was from the western stock and one mortality was from the central stock, NMFS could not justify placing this fishery in Category I.

Finally, this analysis reflects observer data through 1999. Based on preliminary data from 2000, one unidentified large whale was killed incidental to this fishery. Photographs of this incident clearly show that the unidentified animal was not a humpback whale. Further examination of the photographs may provide additional insight as to the species. Preliminary data from 2000 also indicate that the numbers of Steller sea lions seriously injured or killed remained roughly comparable to the numbers in previous years (approximately 6-7 animals per year).

For the reasons listed above, NMFS proposes to elevate the AK BSAI groundfish trawl fishery to Category II.

California/Oregon Thresher Shark/Swordfish Drift Gillnet Fishery (≥14 in. mesh)

NMFS proposes to reclassify the Category I California/Oregon (CA/OR) thresher shark/swordfish drift gillnet fishery (≥14 in. mesh) as Category II. This fishery includes all vessels using drift gillnets of greater than or equal to 14 inch stretched mesh to target thresher shark and swordfish off California and Oregon. It operates primarily outside of state waters to about 150 miles offshore, and ranges from the U.S./Mexico border north to the Columbia River in Oregon. Observer coverage in this fishery ranged from 22.7 percent to 20.4 percent from 1997 to 2001.

The Pacific Offshore Cetacean Take Reduction Team (Team) was convened in 1996 to address incidental mortality and serious injury of marine mammals in this fishery. NMFS implemented a Pacific Offshore Cetacean Take Reduction Plan (Plan) in 1997 based on the Team's recommendations. As a result of the Plan, serious injury and mortality of marine mammals has been reduced to below 50 percent of the PBR level for the marine mammal stocks interacting with this fishery. Therefore, NMFS proposes to reclassify this fishery as Category II. NMFS will continue to place observers on vessels participating in this fishery and work with the Team to monitor and address entanglement of marine mammals in the fishery. The Team supported the reclassification of this fishery at their meeting in May 2002.

NMFS' analysis of the incidental mortality and serious injury of marine mammals in this fishery is based on observer data collected between 1997 and 2001. Marine mammals incidentally injured or killed in the CA/OR thresher shark/swordfish drift gillnet fishery between 1997 and 2001 include: U.S. stock of CA sea lions, CA breeding stock of northern elephant seals, California/Oregon/Washington (CA/OR/WA) stock of Dall's porpoise, CA/OR/WA Northern and Southern stocks of Pacific white-sided dolphin, CA/OR/WA stock of Risso's dolphin, CA/OR/WA stock of short-beaked common dolphin, CA/OR/WA stock of long-beaked common dolphin, CA/OR/WA stock of northern right-whale dolphin, CA/OR/WA stock of short-finned pilot whales, CA/OR/WA stock of sperm whales, CA/OR/WA stock of fin whales, and eastern North Pacific stock of gray whales. There are approximately 113 participants in this fishery, which is the number of permits issued for this fishery by California Department of Fish and Game in 2001. Following is the Tier analysis supporting the reclassification of this fishery.

Tier 1 Evaluation: The estimated total annual incidental mortality and serious injury across all fisheries is greater than 10 percent of the PBR levels for the following stocks: U.S. stock of CA sea lions, CA/OR/WA stock of northern right-whale dolphin, CA/OR/WA stock of short-finned pilot whales, CA/OR/WA stock of sperm whales, and CA/OR/WA stock of fin whales. Therefore, this fishery is subject to Tier 2 analysis for these stocks.

Tier 2 Evaluation: The average annual estimated mortality and serious injury of California sea lions incidental to the CA/OR thresher shark/swordfish drift gillnet fishery during 1997-2001 was 82 animals per year, or 1.2 percent of the PBR level for California sea lions (6,591 animals per year). Because this level of mortality and serious injury exceeds 1 percent of the PBR level but is less than 50 percent of the PBR level, this fishery qualifies for reclassification as a Category II fishery.

The average annual estimated mortality and serious injury of northern right-whale dolphins incidental to this fishery during this period was 23.8 animals per year, or 24.5 percent of the PBR level for this stock (97 animals per year). Because this level of mortality and serious injury exceeds 1 percent of the PBR level but is less than 50 percent of the PBR level, this fishery qualifies for reclassification as a Category II fishery.

The average annual estimated mortality and serious injury of short-finned pilot whales incidental to this fishery from 1997-2001 was 1.2 animals per year, or 21.1 percent of the PBR level for this stock (5.7 animals per year). Because this level of mortality and serious injury exceeds 1 percent of the PBR level but is less than 50 percent of the PBR level, this fishery qualifies for reclassification as a Category II fishery.

The average annual estimated mortality and serious injury of sperm whales incidental to this fishery during this period was 1 animal per year, or 47.8 percent of the PBR level for this stock (2.1 animals per year). Because this level of mortality and serious injury exceeds 1 percent of the PBR level but is less than 50 percent of the PBR level, this fishery qualifies for reclassification as a Category II fishery.

The average annual estimated mortality and serious injury of fin whales incidental to this fishery from 1997 to 2001 was 1 animal per year, or 31.3 percent of the PBR level for this stock (3.2 animals per year). Because this level of mortality and serious injury exceeds 1 percent of the PBR level but is less than 50 percent of the PBR level, this fishery qualifies for reclassification as a Category II fishery.

Since the annual estimated level of marine mammal mortality and serious injury incidental to this fishery is less than 50 percent and greater than 1 percent of the PBR level for all marine mammal stocks described in the Tier 2 analysis, NMFS proposes to reclassify this fishery as Category II.

AK Cook Inlet Salmon Drift Gillnet Fishery

NMFS proposes to reclassify the Cook Inlet salmon drift gillnet fishery from Category II to Category III. The Category II Cook Inlet salmon drift gillnet fishery was observed in 1999 and 2000. One serious injury of a Gulf of Alaska harbor porpoise was observed in the drift gillnet fishery during the 2000 fishing season. This take constitutes less than 1 percent of the PBR for Gulf of Alaska harbor porpoise (PBR = 166). There were no other marine mammal stocks reported interacting with this fishery during the 1999-2000 fishing seasons. Based on the observed level of take in this fishery, NMFS proposes to reclassify the fishery as Category III at this time. An analysis of all takes in this fishery from 1995-2000, relative to the classification criteria support a reclassification from Category III to Category II.

AK Cook Inlet Salmon Set Gillnet Fishery

The Category II Cook Inlet set gillnet fishery was observed in 1999 and 2000. No serious injuries or mortalities of marine mammals were observed in this fishery. Therefore, NMFS proposes to reclassify this fishery from Category II to Category III.

Addition of Fisheries to the LOF

CA Yellowtail, Barracuda, White Seabass, and Tuna Drift Gillnet Fishery (mesh size > 3.5 inches and <14 inches)

NMFS proposes to add the CA yellowtail, barracuda, white seabass, and tuna drift gillnet fishery (mesh size > 3.5 inches and < 14 inches) to the LOF as a Category II fishery based on this fishery's similarity to other drift gillnet fisheries, and therefore, its potential to entangle marine mammals. California Department of Fish and Game logbook and landings data for 1999-2001 indicate that there are approximately 24 vessels that use drift gillnets of greater than 3.5 inches and less than 14 inches to target yellowtail, barracuda, and white seabass of southern California, as well as to target bluefin and albacore tuna primarily off central California. These drift gillnets are up to 6,000 feet long and are set at the surface. Of the 24 vessels known to participate in this fishery in 1999-2001, 19 vessels targeted white seabass during 1999 and 2000, making a total of 277 sets; 7 vessels targeted yellowtail during 1999 and 2000, making a total of 45 sets; and 7 vessels targeted tuna, making a total of 43 sets in 2001.

NMFS does not currently have observer data on the mortality or serious injury of marine mammals incidental to this fishery. Nonetheless, this fishery has a potential to entangle marine mammals because other drift gillnet fisheries with similar characteristics are known to entangle marine mammals. The CA/OR thresher shark/swordfish drift gillnet fishery, for instance, which uses a larger mesh size, historically resulted in frequent incidental mortality and serious injury of marine mammals and is currently subject to take reduction plan regulations. These regulations include requirements to use acoustic pingers on drift gillnets and to set gillnets at least 36 feet below the surface in order to reduce the likelihood of entanglement of marine mammals. While NMFS is uncertain of the likelihood that this new smaller mesh drift gillnet fishery will entangle marine mammals, there are similarities between this fishery and the CA/OR thresher shark/swordfish drift gillnet fishery. As a result, NMFS proposes that this fishery be placed in Category II, based on analogy with the CA/OR thresher shark/swordfish fishery and other gillnet fisheries. This fishery would include all vessels using drift gillnets of mesh size greater than 3.5 inches and less than 14 inches to target yellowtail, barracuda, white seabass and tuna off California.

In July 2002, NMFS began placing observers on some vessels in this fishery to better assess its potential to entangle marine mammals. Based on information collected by observers, NMFS will reassess the categorization of this fishery in a future LOF and evaluate whether this fishery should be addressed by the Pacific Offshore Cetacean Take Reduction Team.

Removals of Fisheries from the LOF

CA Shark/Bonito Longline/Set Line Fishery

In the final LOF for 1998 (63 FR 5748, 5750, February 4, 1998), NMFS revised the name of the CA shark/bonito longline/set line fishery to the CA offshore longline fishery because the fishery primarily targeted swordfish and tunas. Because of a technical error, this name change was not carried forward into the LOF for subsequent years and the fishery remained listed as the CA shark/bonito longline/set line fishery. NMFS is not proposing to implement this name change at this time as it would be duplicative of the CA pelagic longline fishery discussed below. Additionally, there is no evidence that this fishery currently operates. Rather, NMFS proposes to remove the CA shark/bonito longline/set line from the LOF.

Fishery Name and Organizational Changes and Clarifications

Alaska Crustacean Pot Fishery

All shrimp and crab pot fisheries in Alaska are grouped into the Category III Alaska crustacean pot fishery. Since 1996, there have been at least 11 reports of humpback whales entangled in pot gear from the Alaska crustacean pot fishery. Of these entanglements, at least 2 likely caused serious injuries leading to the mortality of the entangled humpback whale. While all 11 of the entanglements were observed in areas where the central North Pacific stock of humpback whales is found, it is not clear whether the entangling gear originated in these same areas. For example, one report identified the gear as tanner crab gear, but the tanner crab fishery has not been active in the known range of the central North Pacific stock of humpback whales since 1996.

NMFS has been studying the stock structure of central North Pacific humpback whales and may propose to separate a portion of the stock that forages in southeast Alaska from the remainder of the stock in the draft 2003 Stock Assessment Report. During this revision, additional effort will be made to determine the likely sources of the pot gear entanglements for central North Pacific humpback whales. NMFS proposes to retain the Alaska crustacean pot fishery in Category III at this time, but will evaluate whether or not to reclassify this fishery in the 2004 LOF, once more information is obtained about humpback whale stock structure.

CA Angel Shark/Halibut and Other Species Large Mesh (>3.5 in. mesh) Set Gillnet Fishery

The CA angel shark/halibut and other species large mesh set gillnet fishery includes all vessels using set gillnets of greater than 3.5 inches stretched mesh to target angel shark and halibut, as well as other species, such as yellowtail and white seabass. This fishery operates off southern and central California. It is a Category I fishery because the average estimated annual mortality and serious injury of the Monterey Bay stock of harbor porpoise in this fishery exceeds 50 percent of the PBR level (11 animals per year) for this stock.

NMFS proposes to remove the reference to “large mesh” in the name of this fishery, and rename it the “CA angel shark/halibut and other species set gillnet fishery (>3.5 in. mesh).” According to 50 CFR Part 229.2, a large mesh gillnet is a gillnet with a mesh size of 7 to 18 inches. Since the CA angel shark/halibut and other species set gillnet fishery uses a mesh size of greater than 3.5 inches, NMFS believes that the term “large mesh” is not applicable to this fishery.

In September 2002, the California Department of Fish and Game issued permanent regulations prohibiting set gillnet fishing in ocean waters that are 60 fathoms or less in depth in central California from Point Reyes to Point Arguello, citing concerns over the incidental take of seabirds and sea otters. NMFS expects that this closure will result in a significant reduction in effort in this fishery off central California, and subsequently, in incidental mortality and serious injury of harbor porpoise.

CA Longline Fishery

NMFS proposes to revise the name of the “CA longline fishery” to the “CA pelagic longline fishery.” As was explained in the proposed LOF for 2001 (66 FR 6545, 6552, January 22, 2001), this fishery is directed primarily toward swordfish caught outside the U.S. Exclusive Economic Zone off California but unloaded in California ports. The name “CA pelagic longline fishery” more accurately describes this fishery and will eliminate confusion between this fishery and the WA/OR/CA groundfish, bottomfish longline/set line fishery, which is a demersal longline fishery.

CA Set and Drift Gillnet Fisheries that Use a Stretched Mesh Size of 3.5 Inches or Less

NMFS is not proposing to change the definition or categorization of this Category III fishery, but provides the following explanation for clarification and comparison with gillnet fisheries for which changes are proposed. This fishery includes CA gillnet fisheries that use a mesh size of 3.5 inches or less that target white croaker, bonito, flying fish, herring, smelt, shad, bottomfish, mullet, perch, and rockfish. There have been no observed or reported incidental takes of marine mammals in this fishery. Due to the small mesh used in this fishery, the likelihood of incidental marine mammal mortality and serious injury is very low. For these reasons, this fishery remains in Category III.

CA/OR Thresher Shark/Swordfish Drift Gillnet Fishery

NMFS proposes to modify the name of this Category I (proposed Category II) fishery to clarify that it includes drift gillnets of greater than or equal to 14 inches stretched mesh only. NMFS proposes to rename the fishery the “CA/OR thresher shark/swordfish drift gillnet fishery (≥14 in. mesh).

Number of Vessels/Persons

AK Bering Sea Aleutian Islands Groundfish Longline/Set Line Fishery

NMFS proposes to change the number of participants in this fishery from 115 to 148 based on 2000 data.

AK Gulf of Alaska Groundfish Longline/Set Line Fishery

NMFS proposes to change the number of participants in this fishery from 876 to 1030 based on 2000 data.

AK Bering Sea Aleutian Islands Groundfish Trawl Fishery

NMFS proposes to change the number of participants in this fishery from 166 to 157 based on 2000 data.

AK Gulf of Alaska Groundfish Trawl Fishery

NMFS proposes to change the number of participants in this fishery from 198 to 145 based on 2000 data.

AK Bering Sea, Gulf of Alaska Finfish Pot Fishery

NMFS proposes to change the number of participants in this fishery from 257 to 314 based on 2000 data.

CA Longline Fishery

NMFS proposes to change the number of participants in this fishery from 45 to 30 to reflect current effort in this fishery.

CA/OR Thresher Shark/Swordfish Drift Gillnet Fishery

NMFS proposes to revise the number of participants in this fishery to 113, which is the number of permits issued for this fishery by the California Department of Fish and Game in 2001.

List of Species that are Incidentally Injured or Killed

AK Bering Sea Aleutian Islands Groundfish Trawl Fishery

NMFS proposes to remove the Gulf of Alaska stock of harbor seal from the list of marine mammal species and stocks incidentally injured or killed by the AK BSAI groundfish trawl fishery because there is no known interaction between this stock of harbor porpoise and this fishery.

NMFS proposes to add the Northeast Pacific stock of fin whales to the list of marine mammal species and stocks incidentally injured or killed by the AK Bering Sea Aleutian Islands groundfish trawl fishery because this stock is known to interact with this fishery and was inadvertently omitted from the list of marine mammal species in the past.

CA Herring Purse Seine Fishery

NMFS proposes to remove the CA coastal stock of bottlenose dolphins from the list of marine mammal species and stocks incidentally injured or killed in the CA herring purse seine fishery. The designation of this stock as interacting with this fishery was based on one interaction from the early 1990s reported in a logbook; however, neither the species identification, nor the location of the take, was ever verified. No other bottlenose dolphins are known to have interacted with this fishery.

CA/OR Thresher Shark/Swordfish Drift Gillnet Fishery (≥14 in. mesh)

NMFS proposes to add the CA/OR/WA stock of fin whales and the eastern North Pacific stock of gray whales to the list of marine mammals incidentally injured or killed in the CA/OR thresher shark/swordfish drift gillnet fishery (≥14 in. mesh). Interactions between each of these marine mammal stocks and this fishery have been documented in previous Stock Assessment Reports. The absence of these marine mammals from previous LOFs was in error. Therefore, NMFS proposes to correct this oversight in the 2003 LOF.

Commercial Fisheries in the Atlantic Ocean, Gulf of Mexico, and Caribbean: Fishery Classification

Atlantic Mixed Species Trap/Pot Fishery

NMFS proposes to add the “Atlantic mixed species trap/pot fishery” to the LOF to encompass the Northeast trap/pot fishery, the Mid-Atlantic mixed species trap/pot fishery, and the U.S. Mid-Atlantic and Southeast U.S. Atlantic black sea bass trap/pot fisheries and include any other trap/pot gear that is not included in other trap/pot fisheries specifically identified in the LOF. Additionally, NMFS proposes to list the Atlantic mixed species trap/pot fishery as a Category II fishery. This fishery would extend throughout U.S. Atlantic waters from Maine to Florida.

NMFS has documented entanglement of whales, pinnipeds, and small cetaceans in fixed gear. Often, however, the gear involved in whale entanglements cannot be attributed to a specific fixed gear fishery. Lobster pot gear, in particular, has been identified in whale entanglements. Between 1995 and 1999, at least two serious injuries or mortalities of right whales were attributed to lobster trap/pot gear. Trap/pot gear is generally fished either as single pots with one buoy line or as strings of pots with one or more buoy lines. Whales may become entangled in the vertical or horizontal components of the gear (e.g., buoy lines and groundlines). The Gulf of Maine/ U.S. Mid-Atlantic lobster trap/pot fishery was elevated to Category I in the 1997 LOF (62 FR 33, January 2, 1997) because of evidence of incidental take resulting in serious injury and mortality of right whales, and the fishery was renamed the Northeast/Mid-Atlantic American lobster trap/pot fishery in the 2001 LOF (66 FR 42780, August, 15, 2001). Additionally, small cetaceans and pinnipeds occasionally become entangled in buoy lines and traps. The Atlantic blue crab trap/pot fishery was elevated to Category II in the 2001 LOF (66 FR 42780, August 15, 2001) based on a review of fishery interaction data from bottlenose dolphin strandings.

Other trap/pot fisheries in the Northeast, Mid-Atlantic, and South Atlantic use gear components similar to those used in the Northeast/Mid-Atlantic American lobster trap/pot fishery and the Atlantic blue crab trap/pot fishery, and therefore, may take marine mammals where fishing effort overlaps with marine mammal distribution. While the majority of records of entanglements in fixed gear cannot be attributed to a specific fishery, it is likely that some entanglements occurred in trap/pot fisheries other than lobster and blue crab trap/pot fisheries. These other trap/pot fisheries may occasionally result in incidental serious injury and mortality to marine mammals. Therefore, NMFS proposes to reclassify these fixed gear fisheries based on analogy with the Northeast/Mid-Atlantic American lobster trap/pot fishery and the Atlantic blue crab trap/pot fishery. NMFS does not believe that the rate of incidental serious injury/mortality in non-lobster trap/pot fisheries would be at the Category I level because, while the exact number of participants is unknown, there are far fewer participants in these fixed gear fisheries than in the lobster fishery. Therefore, NMFS proposes to capture these other trap/pot fisheries in the newly named Atlantic mixed species trap/pot fishery and to classify this fishery as Category II.

Specifically, this fishery would combine the Category II Northeast trap/pot fishery, the Category III Mid-Atlantic mixed species trap/pot fishery, and the Category III U.S. Mid-Atlantic and Southeast U.S. Atlantic black sea bass trap/pot fishery and include any other trap/pot gear that is not included in other trap/pot fisheries specifically identified in the LOF. An estimate of the number of participants in the Atlantic mixed species trap/pot fishery is currently unavailable. The marine mammal species or stocks incidentally injured and killed in these trap/pot fisheries include the Western North Atlantic stock of fin whales, the Gulf of Maine stock of humpback whales, the Canadian east coast stock of Minke whales, and the Gulf of Maine/Bay of Fundy stock of harbor porpoise.

The Category I Northeast/Mid-Atlantic American lobster trap/pot fishery and the Category II Atlantic blue crab trap/pot fishery would retain their separate listings under the LOF. The Category III Florida spiny lobster trap/pot, Southeastern U.S. Atlantic, Gulf of Mexico stone crab trap/pot, and U.S. Mid-Atlantic eel trap/pot fisheries would remain as separate fisheries in Category III because the operation of these trap/pot fisheries does not overlap with right whale distribution and these particular fisheries are not known to interact with marine mammals except on rare occasions. The Southeastern U.S. Atlantic, Gulf of Mexico golden crab fishery would also remain a separate fishery in Category III because this fishery is a deep water fishery that does not use vertical buoy lines typically used in other trap/pot fisheries.

Gulf of Mexico Blue Crab Trap/Pot Fishery

NMFS continues to monitor incidental mortality and serious injury of marine mammals in the Gulf of Mexico blue crab trap/pot fishery. Initially, NMFS proposed to elevate the fishery to Category II in the 2001 LOF based on documented interactions with Gulf of Mexico stocks of bottlenose dolphins. NMFS will continue to monitor this fishery while maintaining it in Category III in the 2003 LOF. Over the next year, NMFS will work with the Gulf States Marine Fisheries Commission and the National Sea Grant Extension Enhancement Program to improve data on bottlenose dolphin entanglements and to reduce incidental takes of bottlenose dolphins in this fishery by removing derelict traps and educating crabbers. NMFS will reevaluate this fishery in the 2004 LOF.

Gulf of Mexico Gillnet Fishery

NMFS proposes to elevate the Gulf of Mexico gillnet fishery to Category II. In the 2001 LOF (66 FR 42780, August 15, 2001), NMFS combined the Category III Gulf of Mexico inshore gillnet, Gulf of Mexico coastal gillnet, and Gulf of Mexico king and Spanish mackerel gillnet fisheries into one fishery named the “Gulf of Mexico gillnet fishery.” NMFS initially proposed to elevate this fishery to Category II based on documented interactions with Gulf of Mexico stocks of bottlenose dolphins. Ultimately, NMFS decided to reevaluate the available data and maintained the fishery in Category III in the 2001 LOF.

Estimates of incidental mortality and serious injury of marine mammals in this fishery are derived primarily from stranding data. Although gillnet effort has been declining in the Gulf of Mexico, a reevaluation of stranding data indicates that bottlenose dolphin strandings continue to occur in areas where gillnet fishing occurs. Because of the small population size of some of the dolphin stocks in the bays, sounds, and estuaries of the Gulf of Mexico, the PBR levels for these stocks are also low, and one interaction every few years can exceed the thresholds for Tier I and Category I and II levels. Based on analogy with other gillnet fisheries, the Atlantic Scientific Review Group's recommendation that NMFS elevate all gillnet fisheries to at least Category II unless there is evidence to the contrary, and the stranding data presented in the following Tier anlaysis, NMFS proposes to elevate the Gulf of Mexico gillnet fishery to Category II. There are approximately 724 participants in this fishery. The species or stocks incidentally injured and killed in this fishery include the Western, Northern, and Eastern Gulf of Mexico coastal stocks of bottlenose dolphins and the Gulf of Mexico Bay, Sound, and Estuarine stocks of bottlenose dolphins. Gulf of Mexico Bay, Sound, and Estuarine stocks of bottlenose dolphins have been broken down into a series of smaller stocks based on geographic area (e.g., Charlotte Harbor, Mississippi River Delta) given information that these bottlenose dolphins exhibit finely-scaled population structure and occur in relatively discrete communities throughout these areas. PBR levels have been calculated for each smaller stock where abundance estimates are available.

Tier 1 Evaluation: NMFS reviewed data from stranded bottlenose dolphins from the Gulf of Mexico that were necropsied and examined for signs of human interaction. Between 1997 and 2000, stranding network members in Gulf of Mexico states recovered 39 bottlenose dolphins from the Gulf of Mexico Bay, Sound, and Estuarine stocks (approximately 10 animals per year) that died as a result of human interactions. Of the 39 animals recovered, up to 12 showed evidence that gillnet interactions could have caused the resulting mortality. Of the 12 animals with signs of gillnet interaction, the cause of death of 5 of the animals was clearly attributable to gillnet gear. Therefore, gillnet gear accounted for the mortality of a minimum of 1.25 animals per year, averaged over the 4 years from 1997 to 2000. More specifically, the 5 dolphins were distributed in the following areas over a period of 4 years from 1997 to 2000: 1 from Charlotte Harbor (PBR = 1.5 animals per year) for an annual mortality of 17 percent of the PBR level; 2 from Mississippi Sound (PBR = 13 animals per year) for an annual mortality of 4 percent of the PBR level; and one each from the Mississippi River Delta and Vermillion Bay, where abundance estimates, and therefore the PBR levels, are unknown because no dolphins were sighted in surveys of those areas. Incidental mortality and serious injury of Charlotte Harbor bottlenose dolphins in this fishery alone exceeds 10 percent of the PBR level for this stock. Therefore, this fishery is subject to Tier 2 analysis.

Tier 2 Evaluation: The incidental mortality and serious injury of Charlotte Harbor bottlenose dolphins and Mississippi Sound bottlenose dolphins in the Gulf of Mexico gillnet fishery exceeds 1 percent of the PBR level, but is less than 50 percent of the PBR level, for each of these marine mammal stocks. Therefore, NMFS proposes to elevate this fishery to Category II.

Mid-Atlantic Coastal Gillnet Fishery

NMFS proposes to elevate the Mid-Atlantic coastal gillnet fishery to Category I as justified by the following tier analysis. Marine mammal species and stocks incidentally injured and killed by this fishery include: the Gulf of Maine stock of humpback whales, the Canadian east coast stock of Minke whales, the western North Atlantic (WNA) offshore and coastal stocks of bottlenose dolphin, the Gulf of Maine/Bay of Fundy stock of harbor porpoise, the WNA stock of harbor seals, the WNA stock of harp seals, the WNA stocks of long-finned and short-finned pilot whales, the WNA stock of white-sided dolphin, and the WNA stock of common dolphin. There are approximately 655 participants in this fishery. The following tier analysis supports elevation of this fishery to Category I.

Tier 1 Evaluation: NMFS' observer program has documented incidental mortality and serious injury of the WNA coastal stock of bottlenose dolphins in the Mid-Atlantic coastal gillnet fishery. For management purposes, coastal bottlenose dolphins have been assigned to seven management units based on the results of genetic, stable isotope ratio, photo-identification, and telemetry studies. Incidental mortality and serious injury of the WNA coastal stock of bottlenose dolphins across all fisheries exceeds 10 percent of the PBR level for this stock of bottlenose dolphins. Therefore, this fishery is subject to Tier 2 analysis.

Tier 2 Evaluation: Annual incidental mortality and serious injury in the Mid-Atlantic coastal gillnet fishery has been estimated from observer coverage. The Mid-Atlantic coastal gillnet fishery causes an estimated incidental mortality and serious injury of 233 WNA coastal bottlenose dolphins per year, which exceeds the PBR (171 animals per year) for this stock. Because the annual incidental mortality and serious injury in the Mid-Atlantic coastal gillnet fishery exceeds 50 percent of the PBR for this stock, the fishery qualifies for reclassification as a Category I fishery.

Addition of Fisheries to the LOF

See discussion of U.S. Atlantic Trap/Pot Mixed Species Fishery.

Removals of Fisheries from the LOF

No changes proposed.

Fishery Name and Organizational Changes

No changes proposed.

Number of Vessels/Persons

No changes proposed.

List of Species that are Incidentally Injured or Killed

No changes proposed.

List of Fisheries

The following two tables list U.S. commercial fisheries according to their assigned categories under section 118 of the MMPA. The estimated number of vessels/participants is expressed in terms of the number of active participants in the fishery, when possible. If this information is not available, the estimated number of vessels or persons licensed for a particular fishery is provided. If no recent information is available on the number of participants in a fishery, the number from the 1996 LOF is used.

The tables also list the marine mammal species and stocks that are incidentally killed or injured in each fishery based on observer data, logbook data, stranding reports, and fisher reports. This list includes all species or stocks known to experience injury or mortality in a given fishery, but also includes species or stocks for which there are anecdotal or historical, but not necessarily current, records of interaction. Additionally, species identified by logbook entries may not be verified. Therefore, not all species or stocks identified are the reason for a fishery's placement in a given category. There are a few fisheries that are in Category II that have no recently documented interactions with marine mammals. Justifications for placement of these fisheries are by analogy to other gear types that are known to cause mortality or serious injury of marine mammals, as discussed in the final LOF for 1996 (60 FR 67063, December 28, 1995).

Table 1 lists commercial fisheries in the Pacific Ocean (including Alaska); Table 2 lists commercial fisheries in the Atlantic Ocean, Gulf of Mexico, and Caribbean.

Table 1—List of Fisheries Commercial Fisheries in the Pacific Ocean
Fishery Description | Estimated no. of vessels/ persons | Marine mammal species and stocks incidentally killed/injured
Category I
GILLNET FISHERIES: |  |
CA angel shark/halibut and other species (>3.5 in mesh) set gillnet | 58 | Harbor porpoise, central CA Common dolphin, short-beaked, CA/OR/WA Common dolphin, long-beaked CA California sea lion, U.S. Harbor seal, CA Northern elephant seal, CA breeding Sea otter, CA
Category II
GILLNET FISHERIES: |  |
AK Bristol Bay salmon drift gillnet | 1,903 | Steller sea lion, Western U.S. Northern fur seal, Eastern Pacific Harbor seal, Bering Sea Beluga whale, Bristol Bay Gray whale, Eastern North Pacific Spotted seal, AK Pacific white-sided dolphin, North Pacific
AK Bristol Bay salmon set gillnet | 1,014 | Harbor seal, Bering Sea Beluga whale, Bristol Bay Gray whale, Eastern North Pacific Northern fur seal, Eastern Pacific Spotted seal, AK
AK Kodiak salmon set gillnet | 188 | Harbor seal, GOA Harbor porpoise, GOA Sea otter, AK
AK Metlakatla/Annette Island salmon drift gillnet | 60 | None documented
AK Peninsula/Aleutian Islands salmon drift gillnet | 164 | Northern fur seal, Eastern Pacific Harbor seal, GOA Harbor porpoise, Bering Sea Dall's porpoise, AK
AK Peninsula/Aleutian Islands salmon set gillnet | 116 | Steller sea lion, Western U.S. Harbor porpoise, Bering Sea
AK Prince William Sound salmon drift gillnet | 541 | Steller sea lion, Western U.S. Northern fur seal, Eastern Pacific Harbor seal, GOA Pacific white-sided dolphin, North Pacific Harbor porpoise, GOA Dall's porpoise, AK Sea Otter, AK
AK Southeast salmon drift gillnet | 481 | Steller sea lion, Eastern U.S. Harbor seal, Southeast AK Pacific white-sided dolphin, North Pacific Harbor porpoise, Southeast AK Dall's porpoise, AK Humpback whale, central North Pacific
AK Yakutat salmon set gillnet | 170 | Harbor seal, Southeast AK Gray whale, Eastern North Pacific
CA/OR thresher shark/swordfish drift gillnet (≥ 14 in. mesh) | 113 | Steller sea lion, Eastern U.S. Sperm whale, CA/OR/WA Dall's porpoise, CA/OR/WA Northern Pacific white-sided dolphin, CA/OR/WA Southern Pacific white-sided dolphin, CA/OR/WA Risso's dolphin, CA/OR/WA Bottlenose dolphin, CA/OR/WA offshore Short-beaked common dolphin CA/OR/WA Long-beaked common dolphin CA/OR/WA Northern right-whale dolphin, CA/OR/WA Short-finned pilot whale, CA/OR/WA Baird's beaked whale, CA/OR/WA Mesoplodont beaked whale, CA/OR/WA Cuvier's beaked whale, CA/OR/WA Pygmy sperm whale, CA/OR/WA California sea lion, U.S. Northern elephant seal, CA breeding Humpback whale, CA/OR/WA-Mexico Minke whale, CA/OR/WA Striped dolphin, CA/OR/WA Killer whale, CA/OR/WA Pacific coast Northern fur seal, San Miguel Island
CA yellowtail, barracuda, white seabass, and tuna drift gillnet fishery (mesh size >3.5 inches and <14 inches) | 24 | None documented
WA Puget Sound Region salmon drift gillnet (includes all inland waters south of US-Canada border and eastward of the Bonilla-Tatoosh line Treaty Indian fishing is excluded) | 725 | Harbor porpoise, inland WA Dall's porpoise, CA/OR/WA Harbor seal, WA inland
PURSE SEINE FISHERIES:
AK Southeast salmon purse seine | 416 | Humpback whale, central North Pacific
CA anchovy, mackerel, tuna purse seine | 150 | Bottlenose dolphin, CA/OR/WA offshore California sea lion, U.S. Harbor seal, CA
CA squid purse seine | 65 | Short-finned pilot whale, CA/OR/WA
TRAWL FISHERIES: | AK Bering Sea and Aleutian Islands Groundfish Trawl | 157 | Steller sea lion, Western U.S. Northern fur seal, Eastern Pacific Killer whale, Eastern North Pacific resident Killer whale, Eastern North Pacific transient Pacific white-sided dolphin, North Pacific Harbor porpoise, Bering Sea Harbor seal, Bering Sea Bearded seal, AK Ringed seal, AK Spotted seal, AK Dall’s porpoise, AK Ribbon seal, AK Northern elephant seal, CA breeding Sea otter, AK Pacific walrus, AK Humpback whale, Central North Pacific Humpback whale, Western North Pacific Fin whale, Northeast Pacific
AK miscellaneous finfish pair trawl | 2 | None documented
LONGLINE FISHERIES: |  |
California pelagic longline | 30 | California sea lion
OR swordfish floating longline | 2 | None documented
OR blue shark floating longline | 1 | None documented
Category III
GILLNET FISHERIES: |  |
AK Cook Inlet salmon drift gillnet | 576 | Steller sea lion, Western U.S. Harbor seal, GOA Harbor porpoise, GOA Dall's porpoise, AK Beluga whale, Cook Inlet
AK Cook Inlet salmon set gillnet | 745 | Steller sea lion, Western U.S. Harbor seal, GOA Harbor porpoise, GOA Dall’s porpoise, AK Beluga whale, Cook Inlet
AK Kuskokwim, Yukon, Norton Sound, Kotzebue salmon gillnet | 1,922 | Harbor porpoise, Bering Sea
AK miscellaneous finfish set gillnet | 3 | Steller sea lion, Western U.S.
AK Prince William Sound salmon set gillnet | 30 | Steller sea lion, Western U.S. Harbor seal, GOA
AK roe herring and food/bait herring gillnet | 2,034 | None documented
CA set and drift gillnet fisheries that use a stretched mesh size of 3.5 in or less | 341 | None documented
Hawaii gillnet | 115 | Bottlenose dolphin, HI Spinner dolphin, HI
WA Grays Harbor salmon drift gillnet (excluding treaty Tribal fishing) | 24 | Harbor seal, OR/WA coast
WA, OR herring, smelt, shad, sturgeon, bottom fish, mullet, perch, rockfish gillnet | 913 | None documented
WA, OR lower Columbia River (includes tributaries) drift gillnet | 110 | California sea lion, U.S. Harbor seal, OR/WA coast
WA Willapa Bay drift gillnet | 82 | Harbor seal, OR/WA coast Northern elephant seal, CA breeding
PURSE SEINE, BEACH SEINE, ROUND HAUL AND THROW NET FISHERIES: |  |
AK Metlakatla salmon purse seine | 10 | None documented
AK miscellaneous finfish beach seine | 1 | None documented
AK miscellaneous finfish purse seine | 3 | None documented
AK octopus/squid purse seine | 2 | None documented
AK roe herring and food/bait herring beach seine | 8 | None documented
AK roe herring and food/bait herring purse seine | 624 | None documented
AK salmon beach seine | 34 | None documented
AK salmon purse seine (except Southeast Alaska, which is in Category II) | 953 | Harbor seal, GOA
CA herring purse seine | 100 | California sea lion, U.S. Harbor seal, CA
CA sardine purse seine | 120 | None documented
HI opelu/akule net | 16 | None documented
HI purse seine | 18 | None documented
HI throw net, cast net | 47 | None documented
WA (all species) beach seine or drag seine | 235 | None documented
WA, OR herring, smelt, squid purse seine or lampara | 130 | None documented
WA salmon purse seine | 440 | None documented
WA salmon reef net | 53 | None documented
DIP NET FISHERIES: |  |
CA squid dip net | 115 | None documented
WA, OR smelt, herring dip net | 119 | None documented
MARINE AQUACULTURE FISHERIES: |  |
CA salmon enhancement rearing pen | >1 | None documented
OR salmon ranch | 1 | None documented
WA, OR salmon net pens | 14 | California sea lion, U.S. Harbor seal, WA inland waters
TROLL FISHERIES: |  |
AK North Pacific halibut, AK bottom fish, WA, OR, CA albacore, groundfish, bottom fish, CA halibut non-salmonid troll fisheries | 1,530 (330 AK) | None documented
AK salmon troll | 2,335 | Steller sea lion, Western U.S. Steller sea lion, Eastern U.S.
American Samoa tuna troll | <50 | None documented
CA/OR/WA salmon troll | 4,300 | None documented
Commonwealth of the Northern Mariana Islands tuna troll | 50 | None documented
Guam tuna troll | 50 | None documented
HI net unclassified | 106 | None documented
HI trolling, rod and reel | 1,795 | None documented
LONGLINE/SET LINE FISHERIES: |  |
AK Bering Sea, Aleutian Islands groundfish longline/set line (federally regulated waters, including miscellaneous finfish and sablefish) | 148 | Northern elephant seal, CA breeding Killer whale, Eastern North Pacific resident Killer whale, transient Steller sea lion, Western U.S. Pacific white-sided dolphin, North Pacific Dall’s porpoise, AK Harbor seal, Bering Sea
AK Gulf of Alaska groundfish longline/set line (federally regulated waters, including miscellaneous finfish and sablefish) | 1,030 | Steller sea lion, Western U.S. Harbor seal, Southeast AK Northern elephant seal, CA breeding
AK halibut longline/set line (State and Federal waters) | 3,079 | Steller sea lion, Western U.S.
AK octopus/squid longline | 7 | None documented
AK state-managed waters groundfish longline/setline (including sablefish, rockfish, and miscellaneous finfish) | 731 | None documented
HI swordfish, tuna, billfish, mahi mahi, wahoo, oceanic sharks longline/set line | 140 | Humpback whale, Central North Pacific False killer whales, HI Risso's dolphin, HI Bottlenose dolphin, HI Spinner dolphin, HI Short-finned pilot whale, HI Sperm whale, HI
WA, OR, CA groundfish, bottomfish longline/set line | 367 | None documented
WA, OR North Pacific halibut longline/set line | 350 | None documented
TRAWL FISHERIES: |  |
AK food/bait herring trawl | 3 | None documented
AK Gulf of Alaska groundfish trawl | 145 | Steller sea lion, Western U.S. Northern fur seal, Eastern Pacific Harbor seal, GOA Dall's porpoise, AK Northern elephant seal, CA breeding Fin whale, Northeast Pacific
AK miscellaneous finfish otter or beam trawl | 6 | None documented
AK shrimp otter trawl and beam trawl (statewide and Cook Inlet) | 58 | None documented
AK state-managed waters of Cook Inlet, Kachemak Bay, Prince William Sound, Southeast AK groundfish trawl | 2 | None documented
WA, OR, CA groundfish trawl | 585 | Steller sea lion, Western U.S. Northern fur seal, Eastern Pacific Pacific white-sided dolphin, central North Pacific Dall's porpoise, CA/OR/WA California sea lion, U.S. Harbor seal, OR/WA coast
WA, OR, CA shrimp trawl | 300 | None documented
POT, RING NET, AND TRAP FISHERIES: |  |
AK Bering Sea, Gulf of Alaska finfish pot | 314 | Harbor seal, GOA Harbor seal, Bering Sea Sea otter, AK
AK crustacean pot | 1,852 | Harbor porpoise, Southeast AK
AK octopus/squid pot | 72 | None documented
AK snail pot | 2 | None documented
CA lobster, prawn, shrimp, rock crab, fish pot | 608 | Sea otter, CA
OR, CA hagfish pot or trap | 25 | None documented
WA, OR, CA crab pot | 1,478 | None documented
WA, OR, CA sablefish pot | 176 | None documented
WA, OR shrimp pot & trap | 254 | None documented
HI crab trap | 22 | None documented
HI fish trap | 19 | None documented
HI lobster trap | 15 | Hawaiian monk seal
HI shrimp trap | 5 | None documented
HANDLINE AND JIG FISHERIES: |  |
AK miscellaneous finfish handline and mechanical jig | 100 | None documented
AK North Pacific halibut handline and mechanical jig | 93 | None documented
AK octopus/squid handline | 2 | None documented
American Samoa bottomfish | <50 | None documented
Commonwealth of the Northern Mariana Islands bottomfish | <50 | None documented
Guam bottomfish | <50 | None documented
HI aku boat, pole and line | 54 | None documented
HI deep sea bottomfish | 434 | Hawaiian monk seal
Hi inshore handline | 650 | Bottlenose dolphin, HI
HI tuna | 144 | Rough-toothed dolphin, HI Bottlenose dolphin, HI Hawaiian monk seal
WA groundfish, bottomfish jig | 679 | None documented
HARPOON FISHERIES: |  |
CA swordfish harpoon | 228 | None documented
POUND NET/WEIR FISHERIES: |  |
AK herring spawn on kelp pound net | 452 | None documented
AK Southeast herring roe/food/bait pound net | 3 | None documented
WA herring brush weir | 1 | None documented
BAIT PENS: |  |
WA/OR/CA bait pens | 13 | None documented
DREDGE FISHERIES: |  |
Coastwide scallop dredge | 108 (12 AK) | None documented
DIVE, HAND/MECHANICAL COLLECTION FISHERIES: |  |
AK abalone | 1 | None documented
AK clam | 156 | None documented
WA herring spawn on kelp | 4 | None documented
AK dungeness crab | 3 | None documented
AK herring spawn on kelp | 363 | None documented
AK urchin and other fish/shellfish | 471 | None documented
CA abalone | 111 | None documented
CA sea urchin | 583 | None documented
HI coral diving | 2 | None documented
HI fish pond | 10 | None documented
HI handpick | 135 | None documented
HI lobster diving | 6 | None documented
HI squiding, spear | 267 | None documented
WA, CA kelp | 4 | None documented
WA/OR sea urchin, other clam, octopus, oyster, sea cucumber, scallop, ghost shrimp hand, dive, or mechanical collection | 637 | None documented
WA shellfish aquaculture | 684 | None documented
COMMERCIAL PASSENGER FISHING VESSEL (CHARTER BOAT) FISHERIES: |  |
AK, WA, OR, CA commercial passenger fishing vessel | >7,000 (1,107 AK) | None documented
HI “other” | 114 | None documented
LIVE FINFISH/SHELLFISH FISHERIES: |  |
CA finfish and shellfish live trap/hook-and-line | 93 | None documented
List of Abbreviations Used in Table 1: AK--Alaska; CA--California; GOA-- Gulf of Alaska; HI--Hawaii; OR--Oregon; WA--Washington.

Table 2—List of Fisheries Commercial Fisheries in the Atlantic Ocean, Gulf of Mexico, and Caribbean
Fishery Description | Estimated # of vessels/persons | Marine mammal species and stocks incidentally injured and killed
Category I
GILLNET FISHERIES: |  |
Mid-Atlantic coastal gillnet | >655 | Humpback whale, Gulf of Maine Minke whale, Canadian east coast Bottlenose dolphin, WNA offshore Bottlenose dolphin, WNA coastal Harbor porpoise, GME/BF Harbor seal, WNA Harp seal, WNA Long-finned pilot whale, WNA Short-finned pilot whale, WNA White-sided dolphin, WNA Common dolphin, WNA
Northeast sink gillnet | 341 | North Atlantic right whale, WNA Humpback whale, WNA Minke whale, Canadian east coast Killer whale, WNA White-sided dolphin, WNA Bottlenose dolphin, WNA offshore Harbor porpoise, GME/BF Harbor seal, WNA Gray seal, WNA Common dolphin, WNA Fin whale, WNA Spotted dolphin, WNA False killer whale, WNA Harp seal, WNA
LONGLINE FISHERIES: |  |
Atlantic Ocean, Caribbean, Gulf of Mexico large pelagics longline | <200 | Humpback whale, WNA Minke whale, Canadian east coast Risso's dolphin, WNA Long-finned pilot whale, WNA Short-finned pilot whale, WNA Common dolphin, WNA Atlantic spotted dolphin, WNA Pantropical spotted dolphin, WNA Striped dolphin, WNA Bottlenose dolphin, WNA offshore Bottlenose dolphin, GMX Outer Continental Shelf Bottlenose dolphin, GMX Continental Shelf Edge and Slope Atlantic spotted dolphin, Northern GMX Pantropical spotted dolphin, Northern GMX Risso's dolphin, Northern GMX Harbor porpoise, GME/BF
TRAP/POT FISHERIES: |  |
Northeast/Mid-Atlantic American lobster trap/pot | 13,000 | North Atlantic right whale, WNA Humpback whale, WNA Fin whale, WNA Minke whale, Canadian east coast Harbor seal, WNA
TRAWL FISHERIES: |  |
Atlantic squid, mackerel, butterfish trawl | 620 | Common dolphin, WNA Risso's dolphin, WNA Long-finned pilot whale, WNA Short-finned pilot whale, WNA White-sided dolphin, WNA
Category II
GILLNET FISHERIES: |  |
Gulf of Mexico gillnet | 724 | Bottlenose dolphin, Western GMX coastal Bottlenose dolphin, Northern GMX coastal Bottlenose dolphin, Eastern GMX coastal Bottlenose dolphin, GMX Bay, Sound, and Estuarine
North Carolina inshore gillnet | 94 | Bottlenose dolphin, WNA coastal
Northeast anchored float gillnet | 133 | Humpback whale, WNA White-sided dolphin, WNA Harbor seal, WNA
Northeast drift gillnet | unknown | None documented
Southeast Atlantic gillnet | 779 | Bottlenose dolphin, WNA coastal
Southeastern U.S. Atlantic shark gillnet | 12 | Bottlenose dolphin, WNA coastal North Atlantic right whale, WNA Atlantic spotted dolphin, WNA
TRAWL FISHERIES: |  |
Atlantic herring midwater trawl (including pair trawl) | 17 | Harbor seal, WNA
TRAP/POT FISHERIES: |  |
Atlantic blue crab trap/pot | >16,000 | Bottlenose dolphin, WNA coastal West Indian manatee, FL
Atlantic mixed species trap/pot | unknown | Fin whale, WNA Humback whale, Gule of Maine Minke whale, Canadian east coast Harbor porpoise, GME/BF
PURSE SEINE FISHERIES: |  |
Gulf of Mexico menhaden purse seine | 50 | Bottlenose dolphin, Western GMX coastal Bottlenose dolphin, Northern GMX coastal
HAUL/BEACH SEINE FISHERIES: |  |
Mid-Atlantic haul/beach seine | 25 | Bottlenose dolphin, WNA coastal Harbor porpoise, GME/BF
North Carolina long haul seine | 33 | Bottlenose dolphin, WNA coastal
STOP NET FISHERIES: |  |
North Carolina roe mullet stop net | 13 | Bottlenose dolphin, WNA coastal
POUND NET FISHERIES: |  |
Virginia pound net | 187 | Bottlenose dolphin, WNA coastal
Category III
GILLNET FISHERIES: |  |
Caribbean gillnet | >991 | Dwarf sperm whale, WNA West Indian manatee, Antillean
Chesapeake Bay inshore gillnet | 45 | Harbor porpoise, GME/BF
Delaware Bay inshore gillnet | 60 | Humpback whale, WNA Bottlenose dolphin, WNA coastal Harbor porpoise, GME/BF
Long Island Sound inshore gillnet | 20 | Humpback whale, WNA Bottlenose dolphin, WNA coastal Harbor porpoise, GME/BF
Rhode Island, southern Massachusetts (to Monomoy Island), and New York Bight (Raritan and Lower New York Bays) inshore gillnet | 32 | Humpback whale, WNA Bottlenose dolphin, WNA coastal Harbor porpoise, GME/BF
TRAWL FISHERIES: |  |
Calico scallops trawl | 12 | None documented
Crab trawl | 400 | None documented
Georgia, South Carolina, Maryland whelk trawl | 25 | None documented
Gulf of Maine, Mid-Atlantic sea scallop trawl | 215 | None documented
Gulf of Maine northern shrimp trawl | 320 | None documented
Gulf of Mexico butterfish trawl | 2 | Atlantic spotted dolphin, Eastern GMX Pantropical spotted dolphin, Eastern GMX
Gulf of Mexico mixed species trawl | 20 | None documented
Mid-Atlantic mixed species trawl | >1,000 | None documented
North Atlantic bottom trawl | 1,052 | Long-finned pilot whale, WNA Short-finned pilot whale, WNA Common dolphin, WNA White-sided dolphin, WNA Striped dolphin, WNA Bottlenose dolphin, WNA offshore
Southeastern U.S. Atlantic, Gulf of Mexico shrimp trawl | >18,000 | Bottlenose dolphin, WNA coastal
U.S. Atlantic monkfish trawl | unknown | Common dolphin, WNA
MARINE AQUACULTURE FISHERIES: |  |
Finfish aquaculture | 48 | Harbor seal, WNA
Shellfish aquaculture | unknown | None documented
PURSE SEINE FISHERIES: |  |
Gulf of Maine Atlantic herring purse seine | 30 | Harbor porpoise, GME/BF Harbor seal, WNA Gray seal, WNA
Gulf of Maine menhaden purse seine | 50 | None documented
Florida west coast sardine purse seine | 10 | Bottlenose dolphin, Eastern GMX coastal
Mid-Atlantic menhaden purse seine | 22 | Bottlenose dolphin, WNA coastal Humpback whale, WNA
U.S. Atlantic tuna purse seine | unknown | None documented
U.S. Mid-Atlantic hand seine | >250 | None documented
LONGLINE/HOOK-AND-LINE FISHERIES: |  |
Gulf of Maine tub trawl groundfish bottom longline/ hook-and-line | 46 | Harbor seal, WNA Gray seal, Northwest North Atlantic Humpback whale, WNA
Gulf of Maine, U.S. Mid-Atlantic tuna, shark, swordfish hook-and-line/harpoon | 26,223 | Humpback whale, WNA
Southeastern U.S. Atlantic, Gulf of Mexico, and Caribbean snapper-grouper and other reef fish bottom longline/hook-and-line | >5,000 | None documented
Southeastern U.S. Atlantic, Gulf of Mexico shark bottom longline/hook-and-line | 124 | None documented
Southeastern U.S. Atlantic, Gulf of Mexico, U.S. Mid-Atlantic pelagic hook-and-line/harpoon | 1,446 | None documented
TRAP/POT FISHERIES |  |
Caribbean mixed species trap/pot | >501 | None documented
Caribbean spiny lobster trap/pot | >197 | None documented
Florida spiny lobster trap/pot | 2,145 | Bottlenose dolphin, Eastern Gulf of Mexico coastal
Gulf of Mexico blue crab trap/pot | 4,113 | Bottlenose dolphin, Western GMX coastal Bottlenose dolphin, Northern GMX coastal Bottlenose dolphin, Eastern GMX coastal Bottlenose dolphin, GMX Bay, Sound, & Estuarine West Indian manatee, FL
Gulf of Mexico mixed species trap/pot | unknown | None documented
Southeastern U.S. Atlantic, Gulf of Mexico golden crab trap/pot | 10 | None documented
Southeastern U.S. Atlantic, Gulf of Mexico stone crab trap/pot | 4,453 | None documented
U.S. Mid-Atlantic eel trap/pot | >700 | None documented
STOP SEINE/WEIR/POUND NET FISHERIES: |  |
Gulf of Maine herring and Atlantic mackerel stop seine/weir | 50 | North Atlantic right whale, WNA Humpback whale, WNA Minke whale, Canadian east coast Harbor porpoise, GME/BF Harbor seal, WNA Gray seal, Northwest North Atlantic
U.S. Mid-Atlantic crab stop seine/weir | 2,600 | None documented
U.S. Mid-Atlantic mixed species stop seine/weir/ pound net (except the North Carolina roe mullet stop net) | 751 | None documented
DREDGE FISHERIES: |  |
Gulf of Maine mussel | >50 | None documented
Gulf of Maine, U.S. Mid-Atlantic sea scallop dredge | 233 | None documented
U.S. Mid-Atlantic/Gulf of Mexico oyster | 7,000 | None documented
U.S. Mid-Atlantic offshore surf clam and quahog dredge | 100 | None documented
HAUL/BEACH SEINE FISHERIES: |  |
Caribbean haul/beach seine | 15 | West Indian manatee, Antillean
Gulf of Mexico haul/beach seine | unknown | None documented
Southeastern U.S. Atlantic, haul/beach seine | 25 | None documented
DIVE, HAND/MECHANICAL COLLECTION FISHERIES: |  |
Atlantic Ocean, Gulf of Mexico, Caribbean shellfish dive, hand/mechanical collection | 20,000 | None documented
Gulf of Maine urchin dive, hand/mechanical collection | >50 | None documented
Gulf of Mexico, Southeast Atlantic, Mid-Atlantic, and Caribbean cast net | unknown | None documented
COMMERCIAL PASSENGER FISHING VESSEL (CHARTER BOAT) FISHERIES: |  |
Atlantic Ocean, Gulf of Mexico, Caribbean commercial passenger fishing vessel | 4,000 | None documented
List of Abbreviations Used in Table 2: FL--Florida; GA--Georgia; GME/BF-- Gulf of Maine/Bay of Fundy; GMX--Gulf of Mexico; NC--North Carolina; SC-- South Carolina; TX--Texas; WNA--Western North Atlantic.

Classification

The Chief Counsel for Regulation of the Department of Commerce certified to the Chief Counsel for Advocacy of the Small Business Administration that this proposed rule would not have a significant economic impact on a substantial number of small entities. For convenience, the factual basis leading to the certification is repeated below.

Under existing regulations, all fishers participating in Category I or II fisheries must register under the MMPA, obtain an Authorization Certificate, and pay a fee of $25. The Authorization Certificate authorizes the taking of marine mammals incidental to commercial fishing operations. NMFS has estimated that approximately 40,000 fishing vessels operate in Category I or II fisheries, and therefore, are required to register. However, registration has been integrated with existing state or Federal registration programs for the majority of these fisheries so that the majority of fishers do not need to register separately under the MMPA. Currently, approximately 5,800 fishers register directly with NMFS under the MMPA authorization program.

An additional 935 fishers would be eligible to register as a result of this proposed rule. However, these fishers may already participate in Category I or II fisheries for which they currently register under the MMPA or participate in Federal or state fisheries with integrated registration programs, such as fisheries in Alaska, and therefore, would not be required to register separately under the MMPA or pay an additional $25 registration fee. Fisheries that this rule proposes to elevate to Category II and whose participants would be required to register include the Alaska Bering Sea and Aleutian Islands Groundfish Trawl fishery (157 participants) and the Gulf of Mexico gillnet fishery (724 participants). Addition of the California yellowtail, barracuda, white seabass, tuna drift gillnet fishery (mesh size > 3.5 in. and < 14 in.) to the LOF as a Category II fishery would require 24 additional participants to register. Addition of the Atlantic mixed species trap/pot fishery to the LOF as a Category II fishery, which involves combining the Northeast trap/pot fishery (already Category II), the Mid-Atlantic mixed species trap/pot fishery, and the U.S. Mid-Atlantic and Southeast U.S. Atlantic black seabass trap/pot fishery would require at least an additional 30 participants to register since it would require elevating the Mid-Atlantic mixed species trap/pot fishery (number of participants unknown) and the U.S. Mid-Atlantic and Southeast U.S. Atlantic black seabass trap/pot fishery (30 participants) to Category II.

Though this rule affects a substantial number of small entities, the $25 registration fee, with respect to anticipated revenues, is not considered a significant economic impact. As a result of this certification, an initial regulatory flexibility analysis was not prepared.

This proposed rule contains collection-of-information requirements subject to the Paperwork Reduction Act. The collection of information for the registration of fishers under the MMPA has been approved by the OMB under OMB control number 0648-0293 (0.25 hours per report for new registrants and 0.15 hours per report for renewals). The requirement for reporting marine mammal injuries or moralities has been approved by OMB under OMB control number 0648-0292 (0.15 hours per report). These estimates include the time for reviewing instructions, searching existing data sources, gathering and maintaining the data needed, and completing and reviewing the collection of information. Send comments regarding these reporting burden estimates or any other aspect of the collections of information, including suggestions for reducing burden, to NMFS and OMB (see ADDRESSES).

Notwithstanding any other provision of law, no person is required to respond to nor shall a person be subject to a penalty for failure to comply with a collection of information subject to the requirements of the Paperwork Reduction Act unless that collection of information displays a currently valid Office of Management and Budget (OMB) control number.

This proposed rule has been determined to be not significant for the purposes of E.O. 12866.

An environmental assessment (EA) was prepared under the National Environmental Policy Act (NEPA) for regulations to implement section 118 of the MMPA (1995 EA). The 1995 EA concluded that implementation of those regulations would not have a significant impact on the human environment. This proposed rule would not make any significant change in the management of reclassified fisheries, and therefore, this proposed rule is not expected to change the analysis or conclusion of the 1995 EA. If NMFS takes a management action, for example, through the development of a Take Reduction Plan (TRP), NMFS will first prepare an environmental document as required under NEPA specific to that action.

This proposed rule will not affect species listed as threatened or endangered under the Endangered Species Act (ESA) or their associated critical habitat. The impacts of numerous fisheries have been analyzed in various biological opinions, and this proposed rule will not affect the conclusions of those opinions. The classification of fisheries on the LOF is not considered to be a management action that would adversely affect threatened or endangered species. If NMFS takes a management action, for example, through the development of a TRP, NMFS would conduct consultation under section 7 of the ESA for that action.

This proposed rule will have no adverse impacts on marine mammals and may have a positive impact on marine mammals by improving knowledge of marine mammals and the fisheries interacting with marine mammals through information collected from observer programs or take reduction teams.

This proposed rule will not affect the land or water uses or natural resources of the coastal zone, as specified under section 307 of the Coastal Zone Management Act.

Dated: January 03, 2003.
William T. Hogarth,
Assistant Administrator for Fisheries, National Marine Fisheries Service.

[FR Doc. 03-523 Filed 1-9-03; 8:45 am]

BILLING CODE 3510-22-S